DEPARTMENT OF COMMERCE

International Trade Administration

[Application No. 84-27A12]

Export Trade Certificate of Review

ACTION: Notice of issuance of an amended Export Trade Certificate of Review to Northwest Fruit Exporters (“NFE”), Application No. (84-27A12).

SUMMARY: The U.S. Department of Commerce issued an amended Export Trade Certificate of Review to NFE on October 24, 2016.

FOR FURTHER INFORMATION CONTACT: Joseph E. Flynn, Director, Office of Trade and Economic Analysis (“OTEA”), International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR part 325 (2016). OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Content

NFE's Export Trade Certificate of Review has been amended to:

1. Add the following companies as new Members of the Certificate within the meaning of section 325.2(l) of the Regulations (15 CFR 325.2(l)), for Export Trade Activities and Methods of Operation relating to apples (A):

a. Legacy Fruit Packers LLC—Wapato, WA

2. Remove the following companies as Members of the Certificate:

a. Garrett Ranches Packing—Wilder, ID

b. Ron Lefore d/b/a LeFore Apple Farms—Milton-Freewater, OR

3. Change the product listing for the following existing Members:

a. From pears (P) to apples and pears (A,P) for Underwood Fruit & Warehouse Co.—Bingen, WA

4. Update the city listing for the following existing Members:

a. Remove Brewster, WA from Custom Apple Packers, Inc.

b. Change location of L&M Companies from Selah to Union Gap, WA

NFE's amendment of its Export Trade Certificate of Review results in the following membership list:

1. Allan Bros., Naches, WA

2. AltaFresh L.L.C. dba Chelan Fresh Marketing, Chelan, WA

3. Apple House Warehouse & Storage, Inc., Brewster, WA

4. Apple King, L.L.C., Yakima, WA

5. Auvil Fruit Co., Inc., Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Broetje Orchards LLC, Prescott, WA

12. C.M. Holtzinger Fruit Co., Inc., Yakima, WA

13. Chelan Fruit Cooperative, Chelan, WA

14. Chiawana, Inc. dba Columbia Reach Pack, Yakima, WA

15. Columbia Fruit Packers, Inc., Wenatchee, WA

16. Columbia Fruit Packers/Airport Division, Wenatchee, WA

17. Columbia Marketing International Corp., Wenatchee, WA

18. Columbia Valley Fruit, L.L.C., Yakima, WA

19. Congdon Packing Co. L.L.C., Yakima, WA

20. Conrad & Adams Fruit L.L.C., Grandview, WA

21. Cowiche Growers, Inc., Cowiche, WA

22. CPC International Apple Company, Tieton, WA

23. Crane & Crane, Inc., Brewster, WA

24. Custom Apple Packers, Inc., Quincy, and Wenatchee, WA

25. Diamond Fruit Growers, Odell, OR

26. Domex Superfresh Growers LLC, Yakima, WA

27. Douglas Fruit Company, Inc., Pasco, WA

28. Dovex Export Company, Wenatchee, WA

29. Duckwall Fruit, Odell, OR

30. E. Brown & Sons, Inc., Milton-Freewater, OR

31. Evans Fruit Co., Inc., Yakima, WA

32. E.W. Brandt & Sons, Inc., Parker, WA

33. Frosty Packing Co., LLC, Yakima, WA

34. G&G Orchards, Inc., Yakima, WA

35. Gilbert Orchards, Inc., Yakima, WA

36. Gold Digger Apples, Inc., Oroville, WA

37. Hansen Fruit & Cold Storage Co., Inc., Yakima, WA

38. Henggeler Packing Co., Inc., Fruitland, ID

39. Highland Fruit Growers, Inc., Yakima, WA

40. HoneyBear Growers, Inc., Brewster, WA

41. Honey Bear Tree Fruit Co., LLC, Wenatchee, WA

42. Hood River Cherry Company, Hood River, OR

43. Ice Lakes LLC, East Wenatchee, WA

44. JackAss Mt. Ranch, Pasco, WA

45. Jenks Bros Cold Storage & Packing Royal City, WA

46. Kershaw Fruit & Cold Storage, Co., Yakima, WA

47. L&M Companies, Union Gap, WA

48. Larson Fruit Co., Selah, WA

49. Legacy Fruit Packers LLC, Wapato, WA

50. Manson Growers Cooperative, Manson, WA

51. Matson Fruit Company, Selah, WA

52. McDougall & Sons, Inc., Wenatchee, WA

53. Monson Fruit Co. Selah, WA

54. Morgan's of Washington dba Double Diamond Fruit, Quincy, WA

55. Naumes, Inc., Medford, OR

56. Northern Fruit Company, Inc., Wenatchee, WA

57. Olympic Fruit Co., Moxee, WA

58. Oneonta Trading Corp., Wenatchee, WA

59. Orchard View Farms, Inc., The Dalles, OR

60. Pacific Coast Cherry Packers, LLC, Yakima, WA

61. Peshastin Hi-Up Growers, Peshastin, WA

62. Phillippi Fruit Company, Inc., Wenatchee, WA

63. Piepel Premium Fruit Packing LLC, East Wenatchee, WA

64. Polehn Farm's Inc., The Dalles, OR

65. Price Cold Storage & Packing Co., Inc., Yakima, WA

66. Pride Packing Company, Wapato, WA

67. Quincy Fresh Fruit Co., Quincy, WA

68. Rainier Fruit Company, Selah, WA

69. Roche Fruit, Ltd., Yakima, WA

70. Sage Fruit Company, L.L.C., Yakima, WA

71. Smith & Nelson, Inc., Tonasket, WA

72. Stadelman Fruit, L.L.C., Milton-Freewater, OR, and Zillah, WA

73. Stemilt Growers, LLC, Wenatchee, WA

74. Strand Apples, Inc., Cowiche, WA

75. Symms Fruit Ranch, Inc., Caldwell, ID

76. The Dalles Fruit Company, LLC, Dallesport, WA

77. Underwood Fruit & Warehouse Co., Bingen, WA

78. Valicoff Fruit Co., Inc., Wapato, WA

79. Valley Fruit III L.L.C., Wapato, WA

80. Washington Cherry Growers, Peshastin, WA

81. Washington Fruit & Produce Co., Yakima, WA

82. Western Sweet Cherry Group, LLC, Yakima, WA

83. Western Traders LLC, E. Wenatchee, WA

84. Whitby Farms, Inc. dba: Farm Boy Fruit Snacks LLC, Mesa, WA

85. Yakima Fresh, Yakima, WA

86. Yakima Fruit & Cold Storage Co., Yakima, WA

87. Zirkle Fruit Company, Selah, WA

The effective date of the amendment is July 25, 2016, the date on which NFE's application to amend was deemed submitted.

Dated: October 26, 2016.
Joseph E. Flynn,
Director, Office of Trade and Economic Analysis, International Trade Administration.

[FR Doc. 2016-26833 Filed 11-4-16; 8:45 am]

BILLING CODE 3510-DR-P